DEPARTMENT OF ENERGY

Federal Energy Regulatory Commission

[Project No. 2197-073 North Carolina; Project No. 2206-030 North Carolina]

Alcoa Power Generating, Inc.; Progress Energy Carolinas; Notice of Availability of the Final Environmental Impact Statement for the Yadkin Project and the Yadkin-Pee Dee River Project

April 18, 2008.

In accordance with the National Environmental Policy Act of 1969 and the Federal Energy Regulatory Commission's (Commission) regulations, 18 CFR part 380 (Order No. 486, 52 FR 47897), the Office of Energy Projects has reviewed the applications for licenses for Alcoa Power Generating, Inc.'s 210-megawatt Yadkin Hydroelectric Project (Project No. 2197) and Progress Energy Carolina's 108.6-MW Yadkin-Pee Dee River Hydroelectric Project (Project No. 2206), located on the Yadkin and Pee Dee rivers in the counties of Davidson, Davie, Montgomery, Rowan, Stanly, Anson, and Richmond, near Charlotte, North Carolina. Based upon this review, the Office of Energy Projects has prepared a Final Environmental Impact Statement (final EIS) for the projects.

The final EIS contains staff's evaluation of the applicant's proposal and alternatives for relicensing the Yadkin and Yadkin-Pee Dee River Projects. The final EIS documents the views of governmental agencies, non-governmental organizations, affected Indian tribes, the public, the license applicants, and Commission staff.

A copy of the final EIS is available for review in the Commission's Public Reference Branch, Room 2A, located at 888 First Street, NE., Washington, DC 20426. The final EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Stephen Bowler at (202) 502-6861 or stephen.bowler@ferc.gov or Lee Emery at (202) 502-8379 or lee.emery@ferc.gov.

Kimberly D. Bose,
Secretary.

[FR Doc. E8-9021 Filed 4-24-08; 8:45 am]

BILLING CODE 6717-01-P